DEPARTMENT OF HOMELAND SECURITY

Federal Emergency Management Agency

Compendium of Flood Map Changes

AGENCY: Federal Emergency Management Agency, DHS.

ACTION: Notice of availability.

SUMMARY: The Federal Emergency Management Agency (FEMA) announces the availability of the Compendium of Flood Map Changes, which provides a listing of changes made to the National Flood Insurance Program (NFIP) maps that went into effect from July 1, 2008, through December 31, 2008. Future notices of NFIP map changes will be made available approximately every 6 months.

DATES: The listings include changes to NFIP maps that went into effect from July 1, 2008, through December 31, 2008.

ADDRESSES: The Compendium of Flood Map Changes is available on the Internet at http://www.fema.gov/plan/prevent/fhm/dl_comp.shtm.

FOR FURTHER INFORMATION CONTACT: William R. Blanton Jr., Chief, Engineering Management Branch, Mitigation Directorate, Federal Emergency Management Agency, 500 C Street, SW., Washington, DC 20472, (202) 646-3151.

SUPPLEMENTARY INFORMATION: In accordance with section 1360(i) of the National Flood Insurance Reform Act of 1994, 42 U.S.C. 4101(i), this notice is provided to inform interested parties of the availability of changes made by FEMA to NFIP maps. In the Compendium of Flood Map Changes, the two listings show communities affected by map changes made by letter and communities affected by physical map changes. For each Letter of Map Change, the first listing provides the map panel(s) affected, effective (determination) date of the change, case number, and determination type. For each physical map change, the Map Revision listing provides the map panel(s) affected and the effective date of the change. The listing also identifies: (1) Those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be made available approximately every 6 months.

The Compendium of Flood Map Changes is available on the Internet at http://www.fema.gov/plan/prevent/fhm/dl_comp.shtm. The compendia shall be available, free of charge, to Federal entities for lending regulation, Federal agency lenders, and States and communities participating in the NFIP, and at a cost to all other parties. For more information, contact the FEMA Map Service Center at (800) 358-9616 or go to http://www.msc.fema.gov.

Authority: 42 U.S.C. 4101(i).

Dated: March 25, 2009.
Michael K. Buckley,
Acting Assistant Administrator, Mitigation Directorate, Department of Homeland Security, Federal Emergency Management Agency.

[FR Doc. E9-8371 Filed 4-10-09; 8:45 am]

BILLING CODE 9110-12-P